DEPARTMENT OF COMMERCE

National Oceanic and Atmospheric Administration

50 CFR Part 679

[Docket No. 0910091344-9056-02]

RIN 0648-XL23

Fisheries of the Exclusive Economic Zone Off Alaska; Gulf of Alaska; 2009 and 2010 Final Harvest Specifications for Groundfish

Correction

In rule document E9-3295 beginning on page 7333 in the issue of Tuesday, February 17, 2009 make the following corrections:

1. On page 7344, Table 11 should read as set forth below:

Table 11—Final 2009 and 2010 Pacific Halibut PSC Limits, Allowances, and Apportionments
[Values are in metric tons]
Trawl gear: Season | Trawl gear: Amount | Hook-and-line gear ¹: Other than DSR: Season | Hook-and-line gear ¹: Other than DSR: Amount | Hook-and-line gear ¹: DSR: Season | Hook-and-line gear ¹: DSR: Amount
January 20-April 1 | 550 (27.5%) | January 1-June 10 | 250 (86%) | January 1-December 31 | 10 (100%)
April 1-July 1 | 400 (20%) | June 10-September 1 | 5 (2%) |  |
July 1-September 1 | 600 (30%) | September 1-December 31 | 35 (12%) |  |
September 1-October 1 | 150 (7.5%) | n/a | n/a |  |
October 1-December 31 | 300 (15%) | n/a | n/a |  |
Total | 2,000 (100%) | n/a | 290 (100%) |  | 10 (100%)
¹ The Pacific halibut PSC limit for hook-and-line gear is allocated to the demersal shelf rockfish (DSR) fishery and fisheries other than DSR. The hook-and-line sablefish fishery is exempt from halibut PSC limits.

2. On page 7347, in Table 14, in the second column, in the sixth entry, “Atka mackere” should read “Atka mackerel”.

3. On the same page, in the same table, in the third column, in the sixth entry, “l60” should read “60”.

4. On page 7350, Table 17 should read as set forth below:

Table 17—Final 2009 and 2010 Non-Exempt American Fisheries Act Catcher Vessel Halibut Prohibited Species Catch (PSC) Limits for Vessels Using Trawl Gear in the GOA
[Values are in metric tons]
Seasonal allowance | Season | Target fishery | Ratio of 1995-1997 non-exempt AFA CV retained catch to total retained catch | 2009 and 2010 PSC limit | 2009 and 2010 non-exempt AFA CV PSC limit
1 | January 20-April 1 | shallow-water | 0.340 | 450 | 153
|  | deep-water | 0.070 | 100 | 7
2 | April 1-July 1 | shallow-water | 0.340 | 100 | 34
|  | deep-water | 0.070 | 300 | 21
3 | July 1-September 1 | shallow-water | 0.340 | 200 | 68
|  | deep-water | 0.070 | 400 | 28
4 | September 1-October 1 | shallow-water | 0.340 | 150 | 51
|  | deep-water ¹ | 0.070 | 0 | 0
5 | October 1-December 31 | all targets | 0.205 | 300 | 61
¹ There is no apportionment of halibut PSC to the deep-water targets in September. However any unused apportionment to the deep-water targets from earlier in the fishing year may be used to support the deep-water targets in September.

5. On page 7355, Table 23 is corrected in part as set forth below:

Table 23—Final 2009 GOA Groundfish Sideboard Limits for Amendment 80 Program Vessels
[Values are rounded to nearest metric ton]
Species | Apportionments and allocations by season | Area | Ratio of amendment 80 program sector vessels 1998-2004 catch to TAC | 2009 TAC (mt) | 2009 amendment 80 program vessel sideboard limits (mt)
* * * * * * *
Northern rockfish | Annual | W | 1.000 | 2,054 | 2,054
Pelagic shelf rockfish | Annual | W | 0.764 | 819 | 626
|  | WYK | 0.896 | 234 | 210

[FR Doc. Z9-3295 Filed 3-13-09; 8:45 am]

BILLING CODE 1505-01-D